NATIONAL SCIENCE FOUNDATION

Committee on Equal Opportunities in Science and Engineering (CEOSE); Notice of Meeting

In accordance with the Federal Advisory Committee Act (Pub. L. 92-463, as amended), the National Science Foundation announces the following meeting:

Name: Committee on Equal Opportunities in Science and Engineering (1173).

Dates/Time: June 29, 2010, 8:30 p.m.-5:30 p.m. June 30, 2010, 8:30 p.m.-2 p.m.

Place: National Science Foundation (NSF), 4201 Wilson Boulevard, Arlington, VA 22230.

To help facilitate your access into the building, please contact the individual listed below prior to the meeting so that a visitors badge may be prepared for you in advance.

Type of Meeting: Open.

Contact Person: Dr. Margaret E.M. Tolbert, Senior Advisor and CEOSE Executive Liaison, Office of Integrative Activities, National Science Foundation, 4201 Wilson Boulevard, Arlington, VA 22230.

Telephone Numbers: (703) 292-4216, 703-292-8040. mtolbert@nsf.gov.

Minutes: Minutes may be obtained from the Executive Liaison at the above address or the Web site at http://www.nsf.gov/od/oia/activities/ceose/index.jsp.

Purpose of Meeting: To study NSF programs and policies and provide advice and recommendations to NSF concerning broadening participation in science and engineering.

Agenda

Monday, June 29, 2010

Opening Statements by the Outgoing and Incoming CEOSE Chairs.

Presentations and Discussions:

✓ Broadening Participation in the America COMPETES Act.

✓ The NSF Strategic Plan with a Focus on the Inclusiveness Sections.

✓ CEOSE Membership.

✓ Suggestions Resulting from the Mini-Symposium.

✓ The Proposed Path Forward for the EHR Comprehensive Program.

Tuesday, June 30, 2010

Opening Statement by CEOSE Chair.

Presentations and Discussions:

✓ Broadening Participation Initiatives in the NSF Mathematical and Physical Sciences Directorate of NSF.

✓ Reports by CEOSE Liaisons to NSF Advisory Committees.

✓ A Conversation with the Acting Director of NSF.

✓ General Discussion Pertinent to the CEOSE Mandate.

Dated: June 9, 2010.
Susanne Bolton,
Committee Management Officer.

[FR Doc. 2010-14163 Filed 6-11-10; 8:45 am]

BILLING CODE 7555-01-P